DEPARTMENT OF JUSTICE

Antitrust Division

Notice Pursuant to the National Cooperative Research and Production Act of 1993—Sarnoff Corporation

Notice is hereby given that, on January 8, 2003, pursuant to Section 6(a) of the National Cooperative Research and Production Act of 1993, 15 U.S.C. 4301 et seq. (“the Act”), Sarnoff Corporation has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Sarnoff Corporation, Princeton, NJ; and E. I. du Pont de Nemours & Company, Wilmington, DE. The nature and objectives of the venture are to develop and demonstrate printable organic electronic materials and fabrication technologies for the production of thin film transistors on plastic substrates for use in low-cost displays.

Constance K. Robinson,
Director of Operations, Antitrust Division.

[FR Doc. 03-3297 Filed 2-10-03; 8:45 am]

BILLING CODE 4410-11-M